DEPARTMENT OF HEALTH AND HUMAN SERVICES

[Document Identifier: OS-0990-new]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before September 19, 2019.

ADDRESSES: Submit your comments to OIRA_submission@omb.eop.gov or via facsimile to (202) 395-5806.

FOR FURTHER INFORMATION CONTACT: Sherrette Funn, Sherrette.Funn@hhs.gov or (202) 795-7714. When submitting comments or requesting information, please include the document identifier 0990-New-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Youth Engagement in Sports (YES) Performance Measures.

Type of Collection: New.

OMB No. 0990-NEW—Youth Engagement in Sports (YES) Performance Measures

Abstract: The Office of Minority Health (OMH) and Office of Women's Health (OWH) are seeking an approval by OMB on a new information collection, Youth Engagement in Sports (YES Initiative) Performance Measures (hereafter YES Initiative Performance Measures). The purpose of this data collection is to gather quantitative data from YES grant recipients to monitor project performance in achieving process and outcome measures over the course of the three-year project. Grantees will collect a small set of process and outcome measures from program participants to assess the degree to which YES Initiative projects increase sports participation and physical activity and improve nutrition in adolescents.

Need and Proposed Use of the Information: The clearance is needed to collect performance data to enable OMH and OWH to comply with Federal reporting requirements, monitor, and evaluate performance by enabling the efficient collection of performance-oriented data tied to OMH- and OWH-wide performance reporting needs. The ability to monitor and evaluate performance in this manner, and to work towards continuous program improvement are basic functions that OMH and OWH must be able to accomplish in order to carry out their respective mandates with the most effective and appropriate use of resources.

Likely Respondents: Project Directors, Youth Participants, Data Entry Persons Affected public includes non-profit institutions, State, Local, or Tribal Governments.

Annualized Burden Hour Table
Forms (if necessary) | Respondents (if necessary) | Number of respondents | Number of responses per respondents | Average burden per response | Total burden hours
Physical Activity & Nutrition Survey | Youth | 2800 | 3 | 20/60 | 2800
Sports Inventory | Youth | 2800 | 2 | 5/60 | 467
Sports Literacy Form | Youth (Staff observe youth) | 2800 | 3 | 20/60 | 2800
Program Participation Record | Staff | 14 | 2 | 4.17 | 117
Total |  |  |  |  | 6184

Terry Clark,
Office of the Secretary, Paperwork Reduction Act Reports Clearance Officer.

[FR Doc. 2019-17886 Filed 8-19-19; 8:45 am]

BILLING CODE 4150-29-P